ENVIRONMENTAL PROTECTION AGENCY

[FRL-8708-2]

Notice of Expert Peer Review Meeting of the Draft Demonstration of Alternative Asbestos Control Method Demolition for Two Asbestos-Containing Buildings

AGENCY: Environmental Protection Agency (EPA).

ACTION: Notice of external peer review meeting.

SUMMARY: EPA is announcing that Versar, Inc., an EPA contractor for external peer review, has convened a panel of experts and will conduct an independent expert peer meeting September 11-12, 2008, to review the two draft documents titled, Evaluation of the Alternative Asbestos Control Method at Site Two (AACM2) for Demolition of Asbestos-Containing Buildings, and Evaluation of the Alternative Asbestos Control Method at Site Three (AACM3) for Demolition of Asbestos-Containing Buildings. These reports were prepared by EPA's Office of Research and Development (ORD) and are available through docket ID number EPA-HQ-ORD-2008-0523 located at http://www.regulations.gov and through http://www.epa.gov/region6/6xa/asbestos. Versar, Inc. invites the public to register to attend this meeting as observers. The public release of these draft documents is solely for the purpose of seeking public comment and external peer review, and these draft reports do not represent and should not be construed to represent any EPA policy, viewpoint, or determination.

DATES: The external peer review panel meeting will be September 11-12, 2008, and begin at 9 a.m. and end by 5 p.m. each day.

ADDRESSES: The independent expert external peer review meeting will be held at the U.S. Environmental Protection Agency's National Risk Management Research Laboratory, located at 26 West Martin Luther King Drive, Cincinnati, OH. Members of the public may attend the meeting as observers and there will be a limited time set aside for comments from the public each day. Pre-registration is strongly recommended as space is limited and reservations will be accepted on a first-come-first-served basis. To attend this meeting, register by September 8, 2008, by visiting http://epa.versar.com/aacm or contact Ms. Kathy Coon of Versar, Inc., 6850 Versar Center, Springfield, VA, 22151, at 703-750-3000, and via e-mail at saundkat@Versar.com. You will be asked for your name, contact information, the organization you represent, and your title. If space allows, telephone and fax registrations will continue to be accepted after this date, including on-site registration. Please indicate if you intend to make an oral statement during the public comment period at the meeting, which will be limited to a maximum of five minutes per commenter.

SUPPLEMENTARY INFORMATION: EPA is submitting the draft reports for independent, external scientific and technical peer review. The draft reports provide the documentation and scientific evaluation of the environmental effectiveness of the draft AACM protocol as a possible alternative technology in controlling multimedia asbestos emissions during demolition of asbestos-containing buildings, as required by the existing Asbestos National Emission Standard for Hazardous Air Pollutants (NESHAP). The draft AACM demolition protocol was used on two separate buildings. One building contained NESHAP-regulated quantities of asbestos-containing transite siding and the second building contained NESHAP-regulated quantities of asbestos-containing popcorn ceiling and wall surfacing material. In addition to assessing the environmental effectiveness of the draft AACM technology, these two draft reports assess the costs and time requirements of the application of the AACM protocol in these situations, as well as document lessons learned in each instance. The public release of these draft documents is solely for the purpose of seeking public comment and peer review, and does not represent and should not be construed to represent any EPA policy, viewpoint, or determination.

Dated: August 20, 2008.
M. Dannel,
Acting Director, Office of Science Policy, Office of Research and Development.

[FR Doc. E8-19750 Filed 8-25-08; 8:45 am]

BILLING CODE 6560-50-P